DEPARTMENT OF THE INTERIOR

Bureau of Land Management

[LLNVS00560 L58530000 EU0000 241A; N-81959, et al.; 13-08807; MO# 4500049637; TAS: 14X5232]

Notice of Realty Action: Competitive, Sealed-Bid, Spring SNPLMA Sale of Public Lands in Clark County, NV

AGENCY: Bureau of Land Management, Interior.

ACTION: Notice of Realty Action.

SUMMARY: The Bureau of Land Management (BLM) proposes to offer nine parcels of public land totaling approximately 133.57 acres in the Las Vegas Valley by competitive, sealed-bid sale, at not less than the appraised fair market values (FMV). The sale parcels will be offered for sale pursuant to the Southern Nevada Public Land Management Act of 1998 (SNPLMA), as amended. The sale would be subject to the applicable provisions of Section 203 of the Federal Land Policy and Management Act of 1976 (FLPMA), and BLM land sale regulations at 43 CFR 2710. The BLM has also completed a Determination of National Environmental Policy Act Adequacy (DNA).

DATES: Interested parties may submit written comments regarding the proposed sale of public land until June 13, 2013. The public sale would not be held prior to June 28, 2013 at the BLM Las Vegas Field Office at the address below. The FMV for the parcels, the period to submit sealed-bids, and the sale date will be announced in local and online media at least 30 days prior to the sale.

ADDRESSES: Mail written comments and sealed bids to the BLM, Las Vegas Field Office, Assistant Field Manager, 4701 N. Torrey Pines Drive, Las Vegas, NV 89130.

FOR FURTHER INFORMATION CONTACT: Manuela Johnson at email: manuela_johnson@blm.gov, or telephone: 702-515-5224. Persons who use a telecommunications device for the deaf (TDD) may call the Federal Information Relay Service (FIRS) at 1-800-877-8339 to contact the above individual during normal business hours. The FIRS is available 24 hours a day, 7 days a week, to leave a message or question with the above individual. You will receive a reply during normal business hours. For general information on previous BLM public land sales, go to: http://www.blm.gov/nv/st/en/snplma/Land_Auctions.html.

SUPPLEMENTARY INFORMATION: The BLM proposes to offer nine parcels of public land in the southwest area of the Las Vegas Valley. The parcels are located between Durango Drive and Jones Boulevard just north of Blue Diamond Road. The subject public lands are described as:

Mount Diablo Meridian

T. 22 S., R. 60 E.,

Sec. 14, SW¼NE¼SE¼, N½SE¼NW¼SE¼, N½SW¼NW¼SE¼, SW¼SW¼NW¼SE¼;

Sec. 15, NE¼SW¼NW¼, E½NW¼SW¼NW¼, W½SE¼SW¼NW¼;

Sec. 16, NW¼NE¼NE¼SE¼, NW¼NE¼SE¼, NE¼NE¼NW¼SE¼, S½SW¼NE¼SE¼, E½NE¼NW¼SE¼SE¼, E½NW¼NW¼SE¼SE¼, SW¼NE¼SE¼SE¼, SE¼NW¼SE¼SE¼, S½SE¼NW¼SE¼, SW¼SW¼NW¼SE¼, N½NE¼SW¼SE¼, NE¼NW¼SW¼SE¼, SE¼NE¼SW¼SE¼, N½NE¼SE¼SW¼SE¼, E½NE¼NE¼SW¼, E½NW¼NE¼NE¼SW¼, N½SE¼NE¼SW¼, E½SE¼SE¼SW¼, SW¼SE¼SE¼SW¼;

Sec. 23, N½SW¼NW¼SW¼NW¼;

Sec. 27, S½NW¼NE¼NW¼, N½SW¼NE¼NW¼, SW¼SW¼NE¼NW¼, SE¼SE¼NW¼NW¼, S½NE¼NW¼NW¼, SE¼NW¼NW¼NW¼, NE¼NE¼SW¼NW¼.

The area described contains 133.57 acres, more or less, in Clark County.

The sale parcels range from 1.07 acres to 31.25 acres in size: N-81959 contains 2.50 acres; N-91125 contains 1.07 acres; N-91529 contains 22.50 acres; N-91530 contains 20.00 acres; N-91531 contains 15.00 acres; N-91532 contains 31.25 acres; N-91537, 11.25 acres; N-91538, 7.50 acres; N-91539, 22.50 acres. A sales matrix is available on the BLM Web site at: http://www.blm.gov/snplma. The sales matrix provides information specific to each sale parcel such as: parcel number, legal description, encumbrances, and acreage.

This proposed competitive, sealed-bid sale is in conformance with the BLM Las Vegas Resource Management Plan (RMP) and decision LD-1, approved by Record of Decision on October 5, 1998, and is in compliance with Section 203 of FLPMA. The proposed sale parcels were also analyzed in the Las Vegas Valley Disposal Boundary Environmental Impact Statement and approved by Record of Decision on December 23, 2004, and a site specific DNA document numbered DOI-BLM-NV-S010-2012-0106-DNA.

Sale procedures: Sealed bids must be presented for the sale parcels described above. Sealed-bid envelopes must be clearly marked on the front lower left corner with “Competitive Sealed-Bid Land Sale, 2013.” Sealed bids for the sale must also include a certified check, postal money order, bank draft, or cashier's check made payable to the “Department of the Interior—Bureau of Land Management” in an amount not less than 20 percent of the total amount bid. Personal or company checks will not be accepted. The sealed-bid envelope must contain a 20-percent bid deposit, and a completed and signed “Certificate of Eligibility” form stating the name, mailing address, and telephone number of the entity or person submitting the bid. Certificate of Eligibility forms are available at the BLM Las Vegas Field Office at the address listed in the ADDRESSES section and on the BLM Web site at: http://www.blm.gov/nv/st/en/snplma/Land_Auctions.html. Pursuant to 43 CFR 2711.3-1(c), if two or more sealed-bid envelopes containing valid bids of the same amount are received, the determination of the highest bid would be by supplemental biddings. Supplemental bidding may be oral or sealed as designated by the authorized officer. Sealed bids would be opened and recorded on the sale date to determine the high bids among the qualified bids received. Bids for less than the federally approved FMV will not be qualified. The BLM will send the successful bidder(s) a high bidder letter with detailed information for full payment.

All funds submitted with unsuccessful bids will be returned to the bidders or their authorized representative upon presentation of acceptable photo identification at the BLM Las Vegas Field Office or by certified mail. If a bidder purchases a parcel and defaults, the BLM may retain the bid deposit and cancel the sale of that parcel. If a high bidder is unable to consummate the transaction for any other reasons, the second highest bid may be considered. If there are no acceptable bids, the parcels may remain available for sale at a future date in accordance with competitive, sale procedures without further legal notice.

Federal law requires that bidders must be: (1) United States citizens 18 years of age or older; (2) A corporation subject to the laws of any State or of the United States; (3) An entity including, but not limited to, associations or partnerships capable of acquiring and owning real property, or interests therein, under the laws of the State of Nevada; or (4) A State, State instrumentality, or political subdivision authorized to hold real property. United States citizenship is evidenced by presenting a birth certificate, passport, or naturalization papers. Failure to submit the above requested documents to the BLM within 30 days from receipt of the high-bidder letter would result in cancellation of the sale of the parcel and forfeiture of the bid deposit. The successful bidder will be allowed 180 days from the date of the sale to submit the remainder of the full purchase price.

Publication of this Notice in the Federal Register segregates the subject lands from all forms of appropriation under the public land laws, including the mining laws. Any subsequent application will not be accepted, will not be considered as filed, and will be returned to the applicant if the notice segregates from the use applied for in the application. The segregative effect of this Notice terminates upon issuance of a patent or other document of conveyance to such lands; publication in the Federal Register of a termination of the segregation; or 2 years after the date of this publication, whichever occurs first. The segregation period may not exceed 2 years unless extended by the BLM State Director, Nevada, in accordance with 43 CFR 2711.1-2(d) prior to the termination date.

All minerals for the sale parcels will be reserved to the United States. The patents, when issued, will contain a mineral reservation to the United States for all minerals.

The parcels are subject to limitations prescribed by law and regulation, and certain encumbrances in favor of third parties. Prior to patent issuance, a holder of any right-of-way within the sale parcels will be given the opportunity to amend their right-of-way for conversion to a new term, including perpetuity, if applicable, or conversion to an easement. The BLM will notify valid existing right-of-way holders of record of their ability to convert their compliant right-of-way to a perpetual right-of-way or easement. In accordance with Federal regulations at 43 CFR 2807.15, once notified, each valid holder may apply for the conversion of their current authorization.

The following numbered terms and conditions will appear on the conveyance documents for the sale parcels:

1. All mineral deposits in the lands so patented, and to it, or persons authorized by it, the right to prospect for, mine, and remove such deposits from the same under applicable law and regulations to be established by the Secretary of the Interior are reserved to the United States, together with all necessary access and exit rights;

2. A right-of-way is reserved for ditches and canals constructed by authority of the United States under the Act of August 30, 1890 (43 U.S.C. 945).

3. A right-of-way for Federal aid highway (Blue Diamond Road) purposes reserved to the Federal Aid Highway Administration, its successors and assigns, by right-of-way No. Nev-012728, pursuant to the Act of August 27, 1958 (23 U.S.C. 107(D)) within parcel N-91125.

4. The parcels are subject to valid existing rights.

5. The parcels are subject to reservations for road, public utilities and flood control purposes, both existing and proposed, in accordance with the local governing entities' transportation plans.

6. By accepting patent, the patentee agrees to indemnify, defend and hold the United States harmless from any costs, damages, claims, causes of action, penalties, fines, liabilities, and judgments of any kind or nature arising from the past, present, and future acts or omissions of the patentee, its employees, agents, contractors, or lessees, or any third-party, arising out of, or in connection with, the patentee's use, occupancy, or operations on the patented real property. This indemnification and hold harmless agreement includes, but is not limited to, acts and omissions of the patentee, its employees, agents, contractors, or lessees, or third party arising out of or in connection with the use and/or occupancy of the patented real property resulting in: (1) Violations of Federal, State, and local laws and regulations applicable to the real property; (2) Judgments, claims or demands of any kind assessed against the United States; (3) Costs, expenses, damages of any kind incurred by the United States; (4) Other releases or threatened releases on, into or under land, property and other interests of the United States by solid or hazardous waste(s) and/or hazardous substances(s), as defined by Federal or State environmental laws; (5) Other activities by which solid or hazardous substances or wastes, as defined by Federal and State environmental laws were generated, released, stored, used or otherwise disposed of on the patented real property, and any cleanup response, remedial action, or other actions related in any manner to said solid or hazardous substances or wastes; and, (6) Natural resource damages as defined by Federal and State law. This covenant shall be construed as running with the patented real property, and may be enforced by the United States in a court of competent jurisdiction.

7. Pursuant to the requirements established by Section 120(h) of the Comprehensive Environmental Response, Compensation and Liability Act, 42 U.S.C. 9620(h) (CERCLA), as amended by the Superfund Amendments and Reauthorization Act of 1988, 100 Stat. 1670, notice is hereby given that the described lands have been examined and no evidence was found to indicate that any hazardous substances have been stored for 1 year or more, nor had any hazardous substances been disposed of or released on the subject property.

No warranty of any kind, express or implied, is given by the United States as to the title, whether or to what extent the land may be developed, its physical condition, future uses, or any other circumstance or condition. The conveyance of any parcel will not be on a contingency basis. However, to the extent required by law, the parcel is subject to the requirements of Section 120(h) of the CERCLA.

Unless other satisfactory arrangements are approved in advance by a BLM authorized officer, conveyance of title shall be through the use of escrow. Designation of the escrow agent shall be through mutual agreement between the BLM and the prospective patentee, and costs of escrow shall be borne by the prospective patentee. Requests for all escrow instructions must be received by the BLM Las Vegas Field Office prior to 30 days before the prospective patentee's scheduled closing date. There are no exceptions.

All name changes and supporting documentation must be received at the BLM Las Vegas Field Office 30 days from the date on the high-bidder letter by 4:30 p.m., Pacific Time. Name changes will not be accepted after that date. To submit a name change, the apparent high bidder must submit the name change in writing on the Certificate of Eligibility form to the BLM Las Vegas Field Office.

The remainder of the full bid price for the parcel must be received no later than 4:30 p.m., Pacific Time, within 180 days following the day of the sale. Payment must be submitted in the form of a certified check, U.S. postal money order, bank draft, cashier's check, or made available by electronic fund transfer made payable in U.S. dollars to the “Department of the Interior, Bureau of Land Management” to the BLM Las Vegas Field Office. Personal or company checks will not be accepted.

Arrangements for electronic fund transfer to BLM for payment of the balance due must be made a minimum of 2 weeks prior to the payment date. Failure to pay the full bid price prior to the expiration of the 180th day will disqualify the apparent high bidder and cause the entire 20 percent bid deposit to be forfeited to the BLM. Forfeiture of the 20 percent bid deposit is in accordance with 43 CFR 2711.3-1(d). No exceptions will be made. The BLM cannot accept the remainder of the bid price after the 180th day of the sale date.

The BLM will not sign any documents related to 1031 Exchange transactions. The timing for completion of an exchange is the bidder's responsibility. The BLM cannot be a party to any 1031 Exchange.

In accordance with 43 CFR 2711.3-1(f), within 30 days the BLM may accept or reject any or all offers to purchase, or withdraw any parcel of land or interest therein from sale, if, in the opinion of a BLM authorized officer, consummation of the sale would be inconsistent with any law, or for other reasons as may be provided by applicable law or regulations. No contractual or other rights against the United States may accrue until the BLM officially accepts the offer to purchase and the full bid price is paid.

On publication of this Notice and until completion of the sale, the BLM is no longer accepting land use applications affecting the parcel identified for sale. However, land use applications may be considered after the sale if the parcel is not sold. The parcel may be subject to land use applications received prior to publication of this Notice if processing the application would have no adverse effect on the marketability of title, or the FMV of the parcel. Information concerning the sale, encumbrances of record, appraisals, reservations, procedures and conditions, CERCLA, and other environmental documents that may appear in the BLM public files for the proposed sale parcels are available for review during business hours, 7:30 a.m. to 4:30 p.m., Pacific Time, Monday through Friday, at the BLM Las Vegas Field Office, except during Federal holidays.

In order to determine the FMV through appraisal, certain extraordinary assumptions and hypothetical conditions may have been made concerning the attributes and limitations of the lands and potential effects of local regulations and policies on potential future land uses. Through publication of this Notice, the BLM advises that these assumptions may not be endorsed or approved by units of local government.

It is the buyer's responsibility to be aware of all applicable Federal, State, and local government laws, regulations and policies that may affect the subject lands, including any required dedication of lands for public uses. It is also the buyer's responsibility to be aware of existing or prospective uses of nearby properties. When conveyed out of Federal ownership, the lands would be subject to any applicable laws, regulations, and policies of the applicable local government for proposed future uses. It is the responsibility of the purchaser to be aware through due diligence of those laws, regulations, and policies, and to seek any required local approvals for future uses. Buyers should also make themselves aware of any Federal or State law or regulation that may impact the future use of the property. Any land lacking access from a public road or highway would be conveyed as such, and future access acquisition would be the responsibility of the buyer.

Before including your address, phone number, email address, or other personal identifying information in your comment, you should be aware that your entire comment—including any personal identifying information—may be made publicly available at any time. While you can ask us in your comment to withhold your personal identifying information from public review, we cannot guarantee that we will be able to do so.

Any adverse comments regarding the proposed sale will be reviewed by the BLM Nevada State Director or other authorized official of the Department of the Interior, who may sustain, vacate, or modify this realty action. In the absence of any adverse comments, this realty action will become the final determination of the Department of the Interior.

Authority: 43 CFR 2711.1-2.

Christina Price,
Acting Assistant Field Manager, Division of Lands.

[FR Doc. 2013-09979 Filed 4-26-13; 8:45 am]

BILLING CODE 4310-HC-P